DEPARTMENT OF HEALTH AND HUMAN SERVICES

Food and Drug Administration

[Docket Nos. FDA-2014-N-1533; FDA-2019-N-2313; FDA-2013-N-0825; FDA-2013-N-1427; FDA-2013-N-1393; FDA-2013-N-0719; FDA-2013-N-0796; and FDA-2018-D-4711]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control No. | Date approval expires
National Panel of Tobacco Consumer Studies | 0910-0815 | 2/28/2023
Study of Oncology Indications in Direct-to-Consumer Television Advertising | 0910-0885 | 2/28/2023
Premarket Approval of Medical Devices | 0910-0231 | 3/31/2023
Hazard Analysis and Critical Control Point Procedures for the Safe and Sanitary Processing of Juice | 0910-0466 | 3/31/2023
Patent Term Restoration, Due Diligence Petitions, Filing, Format, and Content of Petitions | 0910-0233 | 4/30/2023
Planning for the Effects of High Absenteeism to Ensure Availability of Medically Necessary Drug Products | 0910-0675 | 4/30/2023
Testing Communications on Medical Devices and Radiation-Emitting Products | 0910-0678 | 4/30/2023
Requests for Nonbinding Feedback After Certain FDA Inspections of Device Establishments | 0910-0886 | 4/30/2023

Dated: May 18, 2020.
Lowell J. Schiller,
Principal Associate Commissioner for Policy.

[FR Doc. 2020-10977 Filed 5-20-20; 8:45 am]

BILLING CODE 4164-01-P